DEPARTMENT OF EDUCATION

Application Deadline for Fiscal Year 2022; Small, Rural School Achievement Program

AGENCY: Office of Elementary and Secondary Education, Department of Education.

ACTION: Notice.

SUMMARY: Under the Small, Rural School Achievement (SRSA) program, Assistance Listing Number 84.358A, the U.S. Department of Education (Department) awards grants on a formula basis to eligible local educational agencies (LEAs) to address the unique needs of rural school districts. In this notice, we establish the deadline and describe the submission procedures for fiscal year (FY) 2022 SRSA grant applications. This notice relates to the approved information collection under OMB control number 1810-0646. All LEAs eligible for FY 2022 SRSA funds must submit an application electronically via the process described in this notice by the deadline in this notice.

DATES:

Applications Available: February 9, 2022.

Deadline for Transmittal of Applications: April 15, 2022.

FOR FURTHER INFORMATION CONTACT: Ms. Leslie Poynter, U.S. Department of Education, 400 Maryland Avenue SW, Washington, DC 20202. Telephone: (202) 401-0039. Email: reap@ed.gov.

If you use a telecommunications device for the deaf (TDD) or a text telephone (TTY), call the Federal Relay Service, toll free, at 1-800-877-8339.

SUPPLEMENTARY INFORMATION:

I. Award Information

Type of Award: Formula grant.

Available Funds: The Administration has requested $96,420,000 for SRSA in FY 2022. The actual level of funding, if any, depends on final congressional action. However, we are inviting applications to allow enough time to complete the grant process if Congress appropriates funds for this program.

Estimated Range of Awards: $0-$60,000.

Note: Depending on the number of eligible LEAs identified in a given year and the amount appropriated by Congress for the program, some eligible LEAs may receive an SRSA allocation of $0 under the statutory funding formula.

Estimated Number of Awards: 4,260.

II. Program Authority and Eligibility Information

Under what statutory authority will FY 2022 SRSA grant awards be made?

The FY 2022 SRSA grant awards will be made under title V, part B, subpart 1 of the Elementary and Secondary Education Act of 1965, as amended (ESEA).

Which LEAs are eligible for an award under the SRSA program?

For FY 2022, an LEA (including a public charter school that meets the definition of LEA in section 8101(30) of the ESEA) is eligible for an award under the SRSA program if it meets both criteria below:

(a) The total number of students in average daily attendance at all of the schools served by the LEA is fewer than 600; or each county in which a school served by the LEA is located has a total population density of fewer than 10 persons per square mile; and

(b) All of the schools served by the LEA are designated with a school locale code of 41, 42, or 43 by the Department's National Center for Education Statistics (NCES); or the Secretary has determined, based on a demonstration by the LEA and concurrence of the State educational agency, that the LEA is located in an area defined as rural by a governmental agency of the State.

The Department provides an eligibility spreadsheet containing each LEA eligible for FY 2022 SRSA grant funds, which is available on the Department's website at: https://oese.ed.gov/offices/office-of-formula-grants/rural-insular-native-achievement-programs/rural-education-achievement-program/small-rural-school-achievement-program/eligibility/.

If an LEA on the Department's list of LEAs eligible to receive an FY 2022 SRSA award will close prior to the 2022-2023 school year, that LEA is no longer eligible to receive an FY 2022 SRSA award and should not apply.

Note: The “Choice of Participation” provision under section 5225 of the ESEA gives an LEA eligible for both SRSA and the Rural and Low-Income School (RLIS) program authorized under title V, part B, subpart 2 of the ESEA the option to participate in either the SRSA program or the RLIS program. An LEA eligible for both SRSA and RLIS is henceforth referred to as a “dual-eligible LEA.”

Which eligible LEAs must submit an application to receive an FY 2022 SRSA grant award?

Under 34 CFR 75.104(a), the Secretary makes a grant only to an eligible entity that submits an application.

In FY 2022, each LEA eligible to receive an SRSA award is required to submit an SRSA application in order to receive SRSA funds, regardless of whether the LEA received an award or submitted an application in any previous year. This includes each dual-eligible LEA that chooses to participate in the SRSA program instead of the RLIS program, and each SRSA-eligible LEA that is a member of an educational service agency (ESA) that does not receive SRSA funds on the LEA's behalf. In the case of an SRSA-eligible LEA that is a member of an SRSA-eligible ESA, the LEA and ESA must coordinate with each other to determine which entity will submit an SRSA application on the LEA's behalf, as both entities may not apply for or receive SRSA funds for the LEA. Pursuant to section 5225 of the ESEA, a dual-eligible LEA that applies for SRSA funds in accordance with these application submission procedures will not be considered for an RLIS award.

A separate application must be submitted for each eligible LEA and each applicant must apply with its own unique entity identifier pursuant to 2 CFR part 25. For example, if a rural community has two distinct LEAs—one composed of its elementary school(s) and one composed of its high school(s)—each LEA is required to submit its own SRSA application with the LEA's own unique entity identifier.

An LEA eligible to receive FY 2022 SRSA funds that fails to submit an FY 2022 SRSA application in accordance with the requirements below risks not receiving an FY 2022 SRSA award. The Department may consider applications submitted after the deadline to the extent practicable and contingent upon the availability of funding.

As noted above, each applicant must apply with its own unique entity identifier. The applicant's Data Universal Numbering System (DUNS) number will serve as the entity identifier until April 4, 2022, when the Federal Government transitions government-wide from using DUNS numbers to the new Unique Entity Identifier (UEI) system for Federal awards. For more information and resources on the transition from DUNS number to UEI, please visit the Federal Service Desk website at fsd.gov.

III. Application and Submission Information

Electronic Submission of Applications Using MAX.gov

The Department will email each LEA eligible for FY 2022 SRSA grant funds a uniquely identifiable application link on February 9, 2022. The email will include customized instructions for completing the electronic application via the Office of Management and Budget (OMB) MAX Survey platform.

An eligible LEA must submit an electronic application via OMB MAX Survey by April 15, 2022, to be assured of receiving an FY 2022 SRSA grant award. The Department may consider applications submitted after the deadline to the extent practicable and contingent upon the availability of funding.

Please note the following:

• We estimate that it will take 30 minutes to submit an application. We strongly recommend that you do not wait until the application deadline date to begin the application process, however.

• To better ensure applications are processed in a timely, accurate, and efficient manner, we will send reminder emails to any LEAs that have not submitted applications by March 1, 2022.

• An application received by OMB MAX Survey is date and time stamped upon submission and an applicant will receive a confirmation email after the application is submitted.

• If you need to update any information in the application after it has been submitted via OMB MAX Survey, you must contact the REAP program staff directly at reap@ed.gov.

Application Deadline Date Extension in Case of Technical Issues With OMB MAX Survey

If you are unable to submit an application by April 15, 2022, because of technical problems with OMB MAX Survey, contact the REAP program staff at reap@ed.gov within five business days and explain the technical problem you experienced. We will accept your late application as having met the deadline if we can confirm that a technical problem occurred with the OMB MAX Survey system and that the problem affected your ability to submit your application by the application deadline date. As noted above, if you submit your application after the deadline and the late submission is not due to a technical issue about which you have notified the REAP program staff, the Department may consider your application to the extent practicable and contingent upon the availability of funding.

IV. Other Procedural Requirements

System for Award Management

To do business with the Department, you must register in the System for Award Management (SAM), the Federal Government's primary registrant database, using the following information:

a. DUNS number until April 3, 2022, and UEI starting April 4, 2022.

b. Legal business name.

c. Physical address associated with your DUNS number or UEI.

d. Taxpayer identification number (TIN).

e. Taxpayer name associated with your TIN.

f. Bank information to set up Electronic Funds Transfer (EFT) (i.e., routing number, account number, and account type (checking/savings)).

For assistance on the SAM registration process, including directions for how to check your entity's registration status, please view the resources or utilize the live chat function on the FSD.gov website.

V. Accessibility Information and Program Authority

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Program Authority: Sections 5211-5212 of the ESEA, 20 U.S.C. 7345-7345a.

Ian Rosenblum,
Deputy Assistant Secretary for Policy and Programs, Delegated the Authority to Perform the Functions and Duties of the Assistant Secretary.

[FR Doc. 2022-02179 Filed 2-2-22; 8:45 am]

BILLING CODE 4000-01-P